DEPARTMENT OF TRANSPORTATION

Maritime Administration

[Docket No. DOT-MARAD-2021-0129]

Request for Comments on the Renewal of a Previously Approved Information Collection: Ocean Shipments Moving Under Export-Import Bank Financing

AGENCY: Maritime Administration, DOT.

ACTION: Notice and request for comments.

SUMMARY: The Maritime Administration (MARAD) invites public comments on our intention to request the Office of Management and Budget (OMB) approval to renew an information collection. The collection involves documenting shipments made during the life of certain EXIM Bank financed projects. The information to be collected is necessary for MARAD to fulfill its legislative requirement to monitor the percentage of ocean freight revenues/tonnage. We are required to publish this notice in the Federal Register by the Paperwork Reduction Act of 1995. A Federal Register Notice with a 60-day comment period soliciting comments on the following information collection was published on May 3, 2022. This document described a collection of information for which MARAD intends to seek OMB approval.

ADDRESSES: You may submit comments [identified by Docket No. DOT-MARAD-2021-0129] through one of the following methods:

• Federal eRulemaking Portal: www.regulations.gov. Search using the above DOT docket number and follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

Note: All comments received will be posted without change to www.regulations.gov including any personal information provided.

Comments are invited on: (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Electronic Access and Filing

A copy of the notice may be viewed online at www.regulations.gov using the docket number listed above. A copy of this notice will be placed in the docket. Electronic retrieval help and guidelines are available on the website. It is available 24 hours each day, 365 days each year. An electronic copy of this document may also be downloaded from the Office of the Federal Register's website at www.FederalRegister.gov and the Government Publishing Office's website at www.GovInfo.gov.

FOR FURTHER INFORMATION CONTACT: James Mead, (202) 366-5723, Office of Cargo and Commercial Sealift, U.S. Department of Transportation, 1200 New Jersey Avenue SE, Washington, DC 20590.

SUPPLEMENTARY INFORMATION: Title: Ocean Shipments Moving Under Export-Import Bank Financing.

OMB Control Number: 2133-0013.

Type of Request: Renewal of a Previously Approved Information Collection.

Abstract: The information collection will be used by MARAD to monitor compliance with the cargo preference laws by parties covered under PR 17 and 46 CFR part 381. In addition, MARAD will use the information to compile annual information on EXIM Bank-financed shipments, and when applicable, to provide for an informal grievance procedure, in the event there is a question or complaint pertaining to cargo preference matters.

The monthly shipping reports, with substantiating documents, will provide the only basis for MARAD to exercise its legislative responsibility to monitor EXIM Bank-financed cargoes that are transported on U.S.-flag vessels, recipient flag vessels and on third-flag vessels according to the determinations and certifications of vessel non-availability that have been granted. The compilation of the statistics from the shipping reports forms the basis for determining compliance with PR 17 for each loan participant. This information is also provided to the EXIM Bank, and is the nucleus for conducting annual reviews of the shipping activities of the EXIM Bank programs.

MARAD uses the information collected as part of the Transparency Initiative to share with the EXIM Bank. MARAD also intends to use the information to assist EXIM Bank shippers with finding suitable U.S.-flag vessels and in support of the determinations MARAD makes with respect to requests from EXIM Bank shippers for certifications of non-availability.

Respondents: All EXIM Bank loan and certain loan guarantee recipients and designated representatives charged with the responsibility of monthly and annual reporting. These can be a contractor, ocean transportation intermediary, supplier, etc.

Affected Public: EXIM Bank loan and certain loan guarantee recipients.

Estimated Number of Respondents: 28.

Estimated Number of Responses: 12.

Estimated Hours per Response: 0.5.

Annual Estimated Total Annual Burden Hours: 168.

Frequency of Response: Monthly.

(Authority: The Paperwork Reduction Act of 1995; 44 U.S.C. chapter 35, as amended; and 49 CFR 1.93.)

By Order of the Maritime Administrator.
T. Mitchell Hudson, Jr.,
Secretary, Maritime Administration.

[FR Doc. 2022-14903 Filed 7-12-22; 8:45 am]

BILLING CODE 4910-81-P